DEPARTMENT OF DEFENSE

Department of the Army

Record of Decision for the Final Environmental Impact Statement for Short-Term Projects and Real Property Master Plan Update for Fort Belvoir, Virginia

AGENCY: Department of the Army, DoD.

ACTION: Notice of availability.

SUMMARY: The Department of the Army announces the decision to implement the Preferred Alternative identified in the Final Environmental Impact Statement (FEIS) for Short-Term Projects and Real Property Master Plan (RPMP) Update for U.S. Army Garrison Fort Belvoir, VA. The RPMP identifies potential future development and management of real property—land, facilities, resources, and infrastructure—and consequent population changes on Fort Belvoir through 2030. The Record of Decision (ROD) explains the potential environmental impacts associated with the selected action, which includes 52 short-term demolition, construction, and renovation projects; four short-term transportation improvement projects; and 19 long-term facility and transportation improvement projects. The short-term projects are programmed for construction through 2017; the long-term projects are intended for implementation between 2018 and 2030. The ROD also adopts mitigation measures that will minimize or eliminate adverse impacts in land, infrastructure, transportation, and environment.

ADDRESSES: The ROD can be obtained by contacting: Fort Belvoir Directorate of Public Works, Environmental and Natural Resources Division, Re: Real Property Master Plan EIS, 9430 Jackson Loop, Suite 200, Fort Belvoir, VA 22060-5116; or by email to usarmy.belvoir.imcom-atlantic.mbx.enrd@mail.mil. The ROD can also be viewed at the following Web site: https://www.belvoir.army.mil/environdocssection9.asp.

FOR FURTHER INFORMATION CONTACT: Fort Belvoir Directorate of Public Works, Environmental and Natural Resources Division, 703-806-3193 or 703-806-0020, during normal working business hours Monday through Friday, 8 a.m. to 4:00 p.m.; or by email to usarmy.belvoir.imcom-atlantic.mbx.enrd@mail.mil.

SUPPLEMENTARY INFORMATION: The RPMP and the FEIS focused on Fort Belvoir's 7,700-acre Main Post and the 800-acre Fort Belvoir North Area (FBNA, formerly the Engineer Proving Ground). The RPMP update, FEIS, and ROD do not cover Fort Belvoir property at Rivanna Station in Charlottesville, VA; the Mark Center in Alexandria, VA; or the Humphreys Engineer Center, adjacent to Main Post.

The selected action addresses the Army's current and future planning needs at Fort Belvoir. Fort Belvoir's previous master plan was completed in 1993 and was amended in 2002 and 2007. In light of the substantial changes that have occurred on post since 1993, the amended 1993 master plan no longer served to adequately guide the management and use of real property assets—land, facilities, resources, and infrastructure—on the installation. The selected action provides Fort Belvoir with a blueprint for real property planning through 2030 now that the 2005 Base Realignment and Closure (BRAC) recommendations for the post have been implemented. It shifts the planning focus to encompass non-BRAC-related as well as BRAC-related facilities, tenants, and missions and reflects current and projected missions, needs, and conditions. Future growth projections for Main Post and the FBNA indicate an increase of up to 17,000 personnel by 2030 (from 39,000 in 2011) because Fort Belvoir may need to provide additional services to support military and other government organizations.

The ROD incorporates the analyses contained in the FEIS. When preparing the ROD, the Army took into consideration all comments provided during the FEIS waiting period, which began when the Notice of Availability for the FEIS was published in the Federal Register on September 22, 2015 (80 FR 57156). The Army considered all comments received in making its decision, but determined that it did not constitute significant new information relevant to environmental concerns that would require supplementation of the FEIS. Comments received resulted in minor edits to the ROD.

Implementation of the selected action is expected to result in direct, indirect, and cumulative impacts. The only resource area that would experience significant adverse impacts is traffic and transportation around the surrounding area of Fort Belvoir. The Army will mitigate these and other adverse effects through various strategies, as described in the ROD. All mitigations are subject to the availability of funding.

Brenda S. Bowen,
Army Federal Register Liaison Officer.

[FR Doc. 2016-29516 Filed 12-8-16; 8:45 am]

BILLING CODE 5001-03-P